COMMISSION ON CIVIL RIGHTS

Sunshine Act Notice

AGENCY: United States Commission on Civil Rights.

ACTION: Notice of Meeting cancellation.

SUMMARY: On December 9, 2010 (75 FR 76698), the U.S. Commission on Civil Rights announced a business meeting to be held on Friday, December 17, 2010 at the Commission's headquarters. On December 13, 2010 (75 FR 77613), the Commission submitted an amended announcement of the same business meeting to be held on Friday, December 17, 2010 via teleconference. Later on Monday, December 13, 2010, the meeting was cancelled. The details of the cancelled meeting are:

DATE AND TIME: Friday, December 17, 2010; 11:30 a.m. EST.

PLACE: Via Teleconference, Public Dial-In: 1-800-597-7623. Conference ID#: 31039129.

Meeting Agenda

This meeting is open to the public.

I. Approval of Agenda.

II. Welcome New Commissioners.

III. Management and Operations:

• Review of transition, order of succession, continuity of operations.

• Review of 2011 meeting calendar.

• Staff Director's report.

IV. Program Planning: Update and discussion of projects.

• Cy Pres.

• Disparate Impact in School Discipline Policies.

• Gender and the Wage Gap.

• Title IX—Sex Discrimination in Liberal Arts College Admissions.

• Eminent Domain Project.

• NBPP.

V. State Advisory Committee Issues:

• Update on status of North Dakota, Illinois and Minnesota SACs.

• Update on Vermont SAC.

VI. Approval of Minutes of December 3, 2010 Meeting.

VII. Announcements.

VIII. Adjourn.

CONTACT PERSON FOR FURTHER INFORMATION: Lenore Ostrowsky, Acting Chief, Public Affairs Unit (202) 376-8591. TDD: (202) 376-8116.

Persons with a disability requiring special services, such as an interpreter for the hearing impaired, should contact Pamela Dunston at least seven days prior to the meeting at 202-376-8105. TDD: (202) 376-8116.

Dated: December 14, 2010.
David Blackwood,
General Counsel.

[FR Doc. 2010-31717 Filed 12-14-10; 4:15 pm]

BILLING CODE 6335-01-P